DEPARTMENT OF ENERGY

Federal Energy Regulatory Commission

[Docket No. CP18-505-000]

Notice of Schedule for Environmental Review of the Texas Eastern Transmission, LP Cameron System Abandonment Project

On June 18, 2018, Texas Eastern Transmission, LP filed an application in Docket No. CP18-505-000 requesting a Certificate of Public Convenience and Necessity pursuant to Section 7(b) of the Natural Gas Act to abandon certain natural gas pipeline facilities. The proposed project is known as the Cameron System Abandonment Project (Project), and would allow Texas Eastern to abandon the remainder of the Cameron System, which it can no longer adequately maintain with conventional maintenance techniques due to extremely low flows.

On June 29, 2018, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—October 25, 2018

90-day Federal Authorization Decision Deadline—January 23, 2019

If a schedule change becomes necessary, additional notice will be provided so that the relevant agencies are kept informed of the Project's progress.

Project Description

Texas Eastern proposes to abandon 62.3 miles of 30-inch-diameter pipeline, between the Grand Chenier Compressor Station in Cameron Parish, Louisiana to the end of the Cameron System in the shallow waters of the Gulf of Mexico in the West Cameron, East Cameron, and Vermillion offshore areas.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e., CP18-505), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: October 1, 2018.
Kimberly D. Bose,
Secretary.

[FR Doc. 2018-21773 Filed 10-5-18; 8:45 am]

BILLING CODE 6717-01-P